DEPARTMENT OF DEFENSE

Office of the Secretary

[Docket ID: DoD-2013-OS-0005]

Privacy Act of 1974; System of Records

AGENCY: Defense Security Service, DoD.

ACTION: Notice to amend a System of Records.

SUMMARY: The Defense Security Service is amending a system of records notice from its existing inventory of record systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leslie Blake, Defense Security Service, Office of FOIA/PA, 27130 Telegraph Road, Quantico, VA 22314 or at (571) 305-6740.

SUPPLEMENTARY INFORMATION: The Defense Security Service systems of records notices subject to the Privacy Act of 1974 (5 U.S.C. 552a), as amended, have been published in the Federal Register and are available from the address in FOR FURTHER INFORMATION CONTACT.

The proposed amendment is not within the purview of subsection (r) of the Privacy Act of 1974 (5 U.S.C. 552a), as amended, which requires the submission of a new or altered system report.

Dated: January 23, 2013.
Aaron Siegel,
Alternate OSD Federal Register Liaison Officer, Department of Defense.

V1-01

System name:

Privacy and Freedom of Information Request Records (July 14, 1999, 64 FR 37935).

Changes:

* * * * *

System location:

Delete entry and replace with “Freedom of Information (FOI) records are located at the Defense Security Service, Office of FOI and Privacy, 1340 Braddock Place, Alexandria, VA 22314-1651.”

* * * * *

Authority for maintenance of the system:

Delete entry and replace with “5 U.S.C. 301, Departmental Regulations; 5 U.S.C. 552, Public information; agency rules, opinions, orders, records and proceedings; 5 U.S.C. 552 as amended by Pub. L. 93-502, Freedom of Information Act; 5 U.S.C. 552a, Pub. L. 93-579, the Privacy Act of 1974, as amended; DoD 5400.7-R, DoD Freedom of Information Act Program; and DoD 5400.11-R, Department of Defense Privacy Program.”

* * * * *

Storage:

Delete entry and replace with “Paper records and electronic storage media.”

* * * * *

Safeguards:

Delete entry and replace with “Paper records are maintained in security containers and safes located in a secure area accessed by authorized personnel only. The electronic records are accessible by Common Access Card authentication only.”

* * * * *

Notification procedure:

Delete entry and replace with “Individuals seeking to determine if information about themselves is contained in this system should address written inquiries to the Defense Security Service, Office of FOIA/PA, 27130 Telegraph Road, Quantico, VA 22134.

A request for information must contain the full name of the subject individual.”

Record access procedures:

Delete entry and replace with “Individuals seeking access to information about themselves contained in this system of records should address written inquiries to the Defense Security Service, Office of FOIA/PA, 27130 Telegraph Road, Quantico, VA 22134.

A request for information must contain the full name of the subject individual.”

* * * * *

[FR Doc. 2013-01690 Filed 1-25-13; 8:45 am]

BILLING CODE 5001-06-P